DEPARTMENT OF HEALTH AND HUMAN SERVICES

[Document Identifier OS-0990-new]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 1, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Advancing the response to COVID-19 Learning Community Measure.

Type of Collection: New.

OMB No. 0990-NEW—Office within OS—OMH

Abstract: The Department of Health and Human Services, Office of Minority Health (OMH) is seeking an approval by OMB on a new information collection, Advancing the response to COVID-19 Learning Community Measure (hereafter COVID-19 Learning Community Measure). The purpose of this data collection is to gather quantitative and qualitative data from Learning Community members to monitor learning community performance in achieving process and outcome measures over the course of the one-year project. OMH will collect a set of process and outcome measures from program participants to assess the degree to which the learning community is effective in connecting subject matter experts and public health leaders, facilitating networking, and peer-to-peer information sharing of promising practices, programs, and/or policy.

The OMB clearance will enable OMH to monitor and evaluate the COVID-19 Learning Community performance. The data will be used to report the impact of the COVID-19 Learning Community. The ability to monitor and evaluate performance in this manner, and to work towards continuous program improvement are basic functions that OMH must be able to accomplish in order to carry out goals for the COVID-19 Learning Community and to ensure the most effective and appropriate use of resources.

Likely Respondents: Members and staff from academia, community organizations, local/state/federal government, private sector, and tribal government and services who serve American Indian and Alaska Native and/or racial and ethnic minorities.

Estimated Annualized Burden Table
Type of respondent | Number of respondents | Number of responses per respondent | Average burden per response (in hours) | Total burden hours
COVID-19 Learning Community Members | 200 | 1 | 5/60 | 17
Total |  |  |  | 17

Sherrette A. Funn,
Paperwork Reduction Act Reports Clearance Officer, Office of the Secretary.

[FR Doc. 2021-11420 Filed 5-28-21; 8:45 am]

BILLING CODE 4150-29-P